Title 3—

The President

Proclamation 10293 of October 22, 2021

United Nations Day, 2021

By the President of the United States of America

A Proclamation

Seventy-six years ago, emerging from the ashes of a devastating World War, countries around the world embarked on a shared mission: creating a rules-based international order, grounded in democratic values, to advance universal human rights, promote the peaceful settlement of disputes, and ensure adherence to international law. The United Nations was—and remains—the cornerstone of that international order, contributing to unmatched strides towards peace and prosperity shared around the world. Our collective resolve, expressed in the United Nations Charter, remains to uphold our “faith in fundamental human rights, in the dignity and worth of the human person, in the equal rights of men and women and of nations large and small.” On United Nations Day, we celebrate the achievements of this bold declaration, reaffirm the inherent humanity that unites us, and renew our commitment to building a future that advances peace, dignity, and security for all.

Today, we stand in a moment of great pain and extraordinary possibility. Globally, nearly 5 million lives have been lost due to the COVID-19 pandemic, climate catastrophes continue to ravage our communities, inequalities and inequities are on the rise, democracy is under threat, and abuses of emerging technologies are destabilizing societies. Yet we also have new tools and new opportunities to rebuild a better world that is safer and freer for generations yet to come. It is clear that these global challenges require global cooperation, and the United States is determined to lead alongside our allies and partners to tackle the most pressing issues of our age. The United Nations remains the most important forum of its kind for mobilizing collective action to resolve global problems, maintain international peace and security, advance human rights, promote health and well-being, protect the vulnerable and marginalized, and sustain a rules-based international order. As the largest financial contributor to the United Nations, the United States has a deep stake in strengthening and modernizing the multilateral system to better enable us to meet the challenges of the 21st century.

The United Nations remains critical to advancing our national security and foreign policy interests. Since I took office, my Administration has rejoined the Paris Climate Agreement, launched a campaign for a seat on the United Nations Human Rights Council, and restored United States membership in and funding for the World Health Organization. Because none of us will be safe until all of us are safe, the United States is providing over $15 billion toward the global COVID-19 response and has delivered more than 190 million doses of the COVID-19 vaccine to nations around the world, including our COVAX donations. To date, we have pledged to donate more than 1.2 billion doses of the COVID-19 vaccine, and we will continue to think big and do what we must to lead the world out of this pandemic. To ensure that the United Nations can play its central role in delivering global solutions for today's challenges, my budget proposal calls for the United States to pay its share of the United Nations' annual regular and peacekeeping budgets in full. With these key contributions, we are making clear to the world that America is committed to fulfilling its historic role and responsibility to safeguard and strengthen the rules-based order.

We are at an inflection point in history. The choices we make in the next few years—whether or not we come together to face our greatest global challenges—will determine our future for decades to come. The United States stands firmly in support of the United Nations and will continue to rally the world to action not just with the example of our power but with the power of our example. Let us remember that our determination and faith in a better future laid the groundwork for the creation of the United Nations 76 years ago. Now, in a new century, we must work with allies and partners to strengthen the United Nations to effectively and efficiently tackle the challenges that defy political borders and geographical boundaries today. Tremendous work lies ahead of us, but we all share the responsibility to recommit ourselves to the original vision and values enshrined in the United Nations Charter: freedom, equality, opportunity, and human dignity. By doing so, we can build back a better world and ensure America's lasting leadership on the world stage.

NOW, THEREFORE, I, JOSEPH R. BIDEN JR., President of the United States of America, by virtue of the authority vested in me by the Constitution and the laws of the United States, do hereby proclaim October 24, 2021, as United Nations Day. I urge the Governors of the United States and its Territories, and the officials of all other areas under the flag of the United States, to observe United Nations Day with appropriate ceremonies and activities.

IN WITNESS WHEREOF, I have hereunto set my hand this twenty-second day of October, in the year of our Lord two thousand twenty-one, and of the Independence of the United States of America the two hundred and forty-sixth.

[FR Doc. 2021-23559

Filed 10-26-21; 11:15 am]

Billing code 3395-F2-P